DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before October 27, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: September 22, 2011.
Darrin King,
Director, Information Collection Clearance Division, Privacy, Information and Records Management Services, Office of Management.

National Center for Education Statistics

Type of Review: Revision.

Title of Collection: 2012 National Household Education Survey (NHES 2012) Full Scale Data Collection.

OMB Control Number: 1850-0768.

Agency Form Number(s): N/A.

Frequency of Responses: Once.

Affected Public: Individuals or Households.

Total Estimated Number of Annual Responses: 147,773.

Total Estimated Annual Burden Hours: 19,132.

Abstract: The National Household Education Surveys Program (NHES), conducted by the National Center for Education Statistics, collects data directly from households on early childhood care and education, children's readiness for school, parent perceptions of school safety and discipline, before- and after-school activities of school-age children, participation in adult and continuing education, parent involvement in education, school choice, homeschooling, and civic involvement. NHES surveys have been conducted approximately every other year from 1991 through 2007 using Random Digit Dial (RDD) sampling and telephone data collection from landline telephones. Each survey collection included the administration of household screening questions (screener) and two or three topical surveys. Like virtually all RDD surveys, NHES Screener response rates have declined (from above 80% in early 1990s to 53% in 2007) and the decline in the percentage of households without landline telephones (from 93% in early 2004 to about 75% in 2009 mostly due to conversion to cellular-only coverage) raises issues about population coverage. To address these issues, the NHES is transitioning from a RDD interviewer administered study to an Address Based Sample, self- administered study. A feasibility test of the methodology was conducted successfully in 2009 and the new design along with a number of interventions to improve response rates and data quality were field tested in 2011. This submission seeks clearance to conduct the first full-scale national NHES data collection utilizing the new design in 2012. Data collection approaches that were most successful at balancing the need to limit overall bias, respondent burden, and cost in the field test will be used for the 2012 data collection. The Parent and Family Involvement in Education and Early Childhood Program Participation modules will be utilized, focusing on early education and care program participation among preschoolers, and parent and family involvement in the education of children in kindergarten through twelfth grades.

Copies of the information collection submission for OMB review may be accessed from the RegInfo.gov Web site at http://www.reginfo.gov/public/do/PRAMain or from the Department's Web site at http://edicsweb.ed.gov, by selecting the “Browse Pending Collections” link and by clicking on link number 4722. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-24844 Filed 9-26-11; 8:45 am]

BILLING CODE 4000-01-C